DEPARTMENT OF HEALTH AND HUMAN SERVICES

National Institutes of Health

National Cancer Institute; Notice of Meeting

Pursuant to section 10(d) of the Federal Advisory Committee Act, as amended (5 U.S.C. Appendix 2), notice is hereby given of the meeting of the National Cancer Advisory Board.

The meeting will open to the public as indicated below, with attendance limited to space available. Individuals who plan to attend and need special assistance, such as sign language interpretation or other reasonable accommodations, should notify the Contact Person listed below in advance of the meeting.

A portion of the meeting will be closed to the public in accordance with the provisions set forth in sections 552b(c)(6) and 552b(c)(9), Title 5 U.S.C., as amended. The discussions could disclose personal information concerning NCI Staff and/or its contractors, the disclosure of which would constitute a clearly unwarranted invasion of personal privacy, and the premature disclosure of discussions related to personnel and programmatic issues which would be likely to significantly frustrate the subsequent implementation of recommendations.

Name of Committee: National Cancer Advisory Board.

Dates: December 4-6, 2000.

Name of Committee: National Cancer Advisory Board, Subcommittee on Planning and Budget.

Open: December 4, 7:00 p.m. to 8:30 p.m.

Agenda: To discuss activities related to the NCI Planning and Budget process for FY 2001-2002.

Place: Bethesda Hyatt Regency, One Bethesda Metro Center, Bethesda, MD 20814, (301) 657-1234.

Contact Person: Ms. Cherie Nichols, Executive Secretary, National Cancer Institute, National Institutes of Health, (301) 496-5515.

Name of Committee: National Cancer Advisory Board.

Open: December 5, 8:45 a.m. to 11:45 a.m.

Agenda: Program reports and presentations; Business of the Board. For detailed agenda: See NCI Homepage/Advisory Board and Groups, http://deainfo.nci.nih.gov/ADVISORY/boards.htm. Tentative agenda available 10 working days prior to meetings; Final agenda available 5 working days prior to meetings.

Name of Committee: National Cancer Advisory Board, Subcommittee on Clinical Investigations.

Open: December 5, 11:50 a.m. to 12:20 p.m.

Agenda: To discuss activities related to the Subcommittee on Clinical Investigations.

Contact Person: Dr. Ellen Feigal, Acting Executive Secretary, National Cancer Institute, National Institutes of Health, (301) 496-2522.

Name of Committee: National Cancer Advisory Board, Ad Hoc Subcommittee on Communications.

Closed: December 5, 12:20 p.m. to 12:55 p.m.

Agenda: To discuss information of a proprietary and/or personal nature regarding the proposed structure of communication activities within the NCI.

Contact Person: Dr. Susan Sieber, Executive Secretary, National Cancer Institute, National Institutes of Health, (301) 496-5946.

Name of Committee: National Cancer Advisory Board.

Open: December 5, 1:00 p.m. to 4:10 p.m.

Agenda: Program reports and presentations; Business of the Board. For detailed agenda: See NCI Homepage/Advisory Board and Groups, http://deainfo.nci.nih.gov/ADVISORY/boards.htm. Tentative agenda available 10 working days prior to meetings; Final agenda available 5 working days prior to meetings.

Closed: December 5, 4:20 p.m. to Recess.

Agenda: To review and evaluate intramural research projects and discuss information of a personal and confidential nature.

Open: December 6, 8:45 a.m. to Adjournment (About 12:00 p.m.).

Agenda: Program reports and presentations; Business of the Board. For detailed agenda: See NCI Homepage/Advisory Board and Groups, http://deainfo.nci.nih.gov/ADVISORY/boards.htm. Tentative agenda available 10 working days prior to meetings; Final agenda available 5 working days prior to meetings.

Place: Building 31, C Wing, 6 Floor, Conference Room 10, National Institutes of Health, 9000 Rockville Pike, Bethesda, MD 20892.

Contact Person: Dr. Marvin R. Kalt, Executive Secretary, National Cancer Institute, National Institutes of Health, 6116 Executive Boulevard, 8th Floor, Room 8001, Bethesda, MD 20892-8327, (301) 496-5147.

This meeting is being published less than 15 days prior to the meeting due to scheduling conflicts.

Dated: November 16, 2000.
Laverne Y. Stringfield,
Director, Office of Federal Advisory Committee Policy.

[FR Doc. 00-30163 Filed 11-27-00; 8:45 am]

BILLING CODE 4140-01-M